DEPARTMENT OF DEFENSE

Department of the Army; Corps of Engineers

Availability for the Draft Feasibility Report and Environmental Impact Statement/Environmental Impact Report for the Hamilton City Flood Damage Reduction and Ecosystem Restoration, Glenn County, CA

Correction

In notice document 04-7194 appearing on page 16902 in the issue of Wednesday, March 31, 2004, make the following corrections:

1. In the second column, in the SUMMARY paragraph, in the tenth line, “Community” should be removed.

2. In the third column, in the FOR FURTHER INFORMATION CONTACT paragraph, in the sixth line, “1225” should read “1325”.

3. In the same column, in the ÿ7Efile line, the billing code should read “3710-EZ-M”.

[FR Doc. C4-7194 Filed 4-5-04; 8:45 am]

BILLING CODE 1505-01-D

DEPARTMENT OF DEFENSE

Department of Army; Corps of Engineers

Notice of Availability of a Final Supplemental Environmental Impact Statement (FSEIS), for Phipps Ocean Park Beach Restoration Project, FSEIS—Department of the Army (DA) Permit Application Number 200000380 (IP-PLC), Town of Palm Beach, Palm Beach County, FL

Correction

In notice document 04-7195 beginning on page 16903 in the issue of Wednesday, March 31, 2004, make the following correction:

1. On page 16903, in the first column, in the last paragraph, in the fourth and fifth lines, remove “alternative and other alternatives elvaluated to provide”.

2. On the same page, in the second column, in the first paragraph, in the third line, “storm associated” should read “storm risks associated”.

3. On the same page, in the same column, in the second paragraph, in the third line, “North” should read “Worth”.

4. On the same page, in the same column, in the third paragraph, in the fifth line, “R-116a nd ” should read “R-116 and”.

[FR Doc. C4-7195 Filed 4-5-04; 8:45 am]

BILLING CODE 1505-01-D